DEPARTMENT OF AGRICULTURE

Forest Service

Olympic National Forest, Jefferson County, Washington; Dosewallips Road Washout Project

AGENCY: Forest Service, USDA.

ACTION: Revised Notice of intent to prepare an environmental impact statement.

SUMMARY: On August 12, 2005, the USDA, Forest Service, Olympic National Forest, published a Notice of Intent in Federal Register (70 FR 47171) to prepare an environmental impact statement (EIS) for Dosewallips Road Washout Project. The Notice of Intent is being revised to correct the project's location from Oregon State to Washington State, and to correct the Olympic National Park e-mail contact address. The correct address is olym_ea@nps.gov.

FOR FURTHER INFORMATION CONTACT: Tim Davis, Project Team Leader, Olympic National Forest, 1835 Black Lake Blvd. SW., Suite A, Olympia, WA 98512; phone (360) 956-2375; or e-mail tedavis@fs.fed.us. For information on the National Park Service component of the project, contact Nancy Hendricks, Environmental Protection Specialist, 600 East Park Ave., Port Angeles, WA 98362; phone (360) 565-3008; or e-mail olym_ea@nps.gov.

Dated: August 19, 2005.
Virginia Grilley,
Acting Forest Supervisor, Olympic National Forest.

[FR Doc. 05-16984 Filed 8-25-05; 8:45 am]

BILLING CODE 3410-11-M